DEPARTMENT OF THE INTERIOR

Bureau of Land Management

[NV-050-1430-ES; N-41566-33, N-41569-22, N-41569-35, N-75017-01, N-75270-01, N-75276-01, N-75729-01, N-75717-01, N-76672-01]

Notice of Realty Action: Lease/Conveyance for Recreation and Public Purposes

AGENCY: Bureau of Land Management, Interior.

ACTION: The following described public land in the Las Vegas Valley, Clark County, Nevada, has been examined and found suitable for lease/conveyance for recreational or public purposes under the provisions of the Recreation and Public Purposes Act, as amended (43 U.S.C. 869 et. seq.). The Clark County School District proposes to use the land for elementary, middle and high school sites.

Mount Diablo Meridian, Nevada

Elementary School—N-41566-33—T. 22 S., R. 60 E., Sec. 28: NW¼SW¼NE¼, N½SW¼SW¼NE¼, 15 acres. General location: northeast of intersection of Mountain's Edge Parkway and Cimarron Road.

Elementary School—N-41569-22—T. 22 S., R. 60 E., Sec. 21: N½SE¼SW¼SW¼, S½NE¼SW¼SW¼, NW¼SW¼SE¼SW¼, SW¼NW¼SE¼SW¼, 15 acres. General location: northeast of intersection of Durango Drive and Gomer Road.

Elementary School—N-41569-35—T. 22 S., R. 60 E., Sec. 27: W½NW¼NE¼SW¼, NE¼NW¼SW¼, E½NW¼NW¼SW¼, 20 acres. General location: southeast of intersection of Mountain's Edge Parkway and Buffalo Drive.

Elementary School—N-75017-01—T. 22 S., R. 60 E., Sec. 34: NE¼SW¼SW¼, E½NW¼SW¼SW¼, 15 acres. General location: northeast of intersection of Starr Avenue and Buffalo Drive.

Middle School—N-75270-01—T. 22 S., R. 60 E., Sec. 34: W½E½SE¼NE¼, W½SE¼NE¼, 30 acres. General location: northwest of intersection of Rainbow Boulevard and Erie Avenue.

Vocational High School—N-75276-01—T. 19 S., R. 60 E., MDM Sec. 28: E½E½SW¼NW¼, W½SE¼NW¼, 30 acres. General location: northeast of intersection of Durango Drive and Tropical Parkway.

Elementary/Middle School—N-75729-01—T. 22 S., R. 60 E., MDM Sec. 29: SW¼NE¼NW¼NE¼, S½NW¼NW¼NE¼, SW¼NW¼NE¼, W½SE¼NW¼NE¼, NW¼NE¼SW¼NE¼, N½NW¼SW¼NE¼, 30 acres. General location: east of intersection of El Capitan Way and Le Baron Avenue.

Tanaka Elementary School—N-75717-01—T. 22 S., R. 60 E., Sec. 05: NW¼NE¼SW¼, N½N½SW¼NE¼SW¼, 13.28 acres. General location: southeast of intersection of Quarterhorse Lane and Maule Avenue.

Quarry Elementary School—N-76672-01—T. 21 S., R. 62 E., MDM Sec. 11: NW¼NE¼SW¼ (NW¼ lot 7), N½NW¼SW¼ (N½ lot 8), 30.61 acres. General location: south of intersection of Hollywood Boulevard and Vegas Valley Drive. Containing approximately 198.89 acres.

The land is not required for any Federal purpose. The lease/conveyance is consistent with current Bureau planning for this area and would be in the public interest. The lease/patent, when issued, will be subject to the provisions of the Recreation and Public Purposes Act and applicable regulations of the Secretary of the Interior and each will contain the following reservations to the United States:

1. A right-of-way thereon for ditches and canals constructed by the authority of the United States, Act of August 30, 1890 (43 U.S.C. 945).

2. All minerals shall be reserved to the United States, together with the right to prospect for, mine and remove such deposits from the same under applicable law and such regulations as the secretary of the Interior may prescribe.

And will be subject to:

1. All valid and existing rights. Detailed information concerning this action is available for review at the office of the Bureau of Land Management, Las Vegas Field Office, 4701 N. Torrey Pines Drive, Las Vegas, NV, or by calling (702) 515-5000.

Upon publication of this notice in the Federal Register, the above described land will be segregated from all other forms of appropriation under the public land laws, including the general mining laws, except for lease/conveyance under the Recreation and Public Purposes Act, leasing under the mineral leasing laws and disposal under the mineral material disposal laws.

For a period of 45 days from the date of publication of this notice in the Federal Register, interested parties may submit comments regarding the proposed lease/conveyance for classification of the lands to the Las Vegas Field Manager, Las Vegas Field Office, 4701 N. Torrey Pines Drive, Las Vegas, Nevada 89130-2301.

Classification Comments

Interested parties may submit comments involving the suitability of the land for the proposed schools. Comments on the classification are restricted to whether the land is physically suited for the proposal, whether the use will maximize the future use or uses of the land, whether the use is consistent with local planning and zoning, or if the use is consistent with State and Federal programs.

Applications Comments

Interested parties may submit comments regarding the specific use proposed in the application and plan of development, whether the BLM followed proper administrative procedures in reaching the decision, or any other factor not directly related to the suitability of the lands for schools. Any adverse comments will be reviewed by the State Director who may sustain, vacate, or modify this realty action. In the absence of any adverse comments, these realty actions will become the final determination of the Department of the Interior. The classification of the land described in this Notice will become effective 60 days from the date of publication in the Federal Register. The lands will not be offered for lease/conveyance until after the classification becomes effective.

Dated: June 16, 2003.
Sharon DiPinto,
Acting Assistant Field Manager, Division of Lands, Las Vegas, NV.

[FR Doc. 03-17734 Filed 7-11-03; 8:45 am]

BILLING CODE 4310-HC-P